DEPARTMENT OF THE INTERIOR

Bureau of Land Management

[LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of the Third Standard Parallel South (south boundary), the east, north and a portion of the west boundaries, the survey of a portion of the subdivisional lines and the establishment of an electronic control corner, Township 15 South, Range 3 West, accepted February16, 2012, and officially filed February 22, 2012, for Group 1089, Arizona.

This plat was prepared at the request of the Bureau of Indian Affairs, Western Regional Office.

The plat representing the dependent resurvey of a portion of the Third Standard Parallel South (south boundary), Township 15 South, Range 2 West, and the survey of the south, east and west boundaries and a portion of the subdivisional lines, Township 16 South, Range 3 West, accepted February 16, 2012, and officially filed February 22, 2012, for Group 1089, Arizona.

This plat was prepared at the request of the Bureau of Indian Affairs, Western Regional Office.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Stephen K. Hansen,
Chief Cadastral Surveyor of Arizona.

[FR Doc. 2012-4804 Filed 2-28-12; 8:45 am]

BILLING CODE 4310-32-P